DEPARTMENT OF TRANSPORTATION

Federal Aviation Administration

[Policy Statement No. ANM-02-113-016]

Guidance for the Certification of Honeywell Primus Epic® Systems

AGENCY: Federal Aviation Administration (FAA), DOT.

ACTION: Notice of proposed policy; request for comments.

SUMMARY: The Federal Aviation Administration (FAA) announces the availability of proposed policy that clarifies current FAA policy with respect to certification of Honeywell Primus Epic® Systems.

DATE: Send your comments on or before September 30, 2002.

ADDRESS: Address your comments to the individual identified under FOR FURTHER INFORMATION CONTACT.

FOR FURTHER INFORMATION CONTACT: Connie Beane, Federal Aviation Administration, Transport Airplane Directorate, Transport Standards Staff, Standardization Branch, ANM-113, 1601 Lind Avenue SW., Renton, WA 98055-4056; telephone (425) 227-2796; fax (425) 227-1320; e-mail: connie.beane@faa.gov.

SUPPLEMENTARY INFORMATION:

Comments Invited

The proposed policy is available on the Internet at the following address: http://www.faa.gov/certification/aircraft/anminfo/devpaper.cfm. If you do not have access to the Internet, You can obtain a copy of the policy statement by contacting the person listed under For Further Information Contact.

The FAA invites your comments on this proposed policy. We will accept your comments, data, views, or arguments by letter, fax, or e-mail. Send your comments to the person indicated in For Further information Contact. Mark your comments, “Comments to Policy Statement ANM-02-113-016.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

In the past several years, new aircraft designs have introduced new technologies. These technologies are being combined and used in novel ways and may represent significant challenges with respect to the acceptability of the flightcrew interfaces and aircraft airworthiness.

Honeywell Primus Epic® systems are an avionics suite consisting of single or multiple racks/cabinets with circuit cards or modules that plug into the cabinets. Each racks/cabinets is configurable in that the number of modules can vary in each cabinet; the functions loaded into the cards can vary considerably, and there can be multiple racks/cabinets per aircraft. The functionality of the system is determined by the software loaded into the circuit cards. All the software on these circuit cards can be field-loaded, that is, loaded into the Honeywell Primus Epic® modules without removing the equipment from the aircraft.

Issued in Renton, Washington, on August 21, 2002.
Vi L. Lipski,
Manager, Transport Airplane Directorate, Aircraft Certification Service.

[FR Doc. 02-22273 Filed 8-29-02; 8:45 am]

BILLING CODE 4910-13-M